DEPARTMENT OF JUSTICE

Notice of Lodging of Consent Decree Under the Clean Air Act

Notice is hereby given that on February 1, 2002, a proposed Consent Decree (“Decree”) in United States v. Williams Field Services Company and Williams Gas Processing Company, Inc., Civil Action No. 02-B-0199, was lodged with the United States District Court for the District of Colorado. The action was filed pursuant section 113(b) of the Clean Air Act (the “Act”), 42 U.S.C. 7413(b). The action concerns modifications of the so-called Ignacio Plant, a natural gas processing plant located on privately owned fee land situated within the exterior boundaries of the Southern Ute Indian Reservation near Durango, Colorado, consisting of the installation of two dehydrators allegedly in violation of the Act's Prevention of Significant Deterioration (“PSD”) program. Pursuant to the terms of the settlement the Companies are required to pay a civil penalty of $951,139 and obtain a PSD permit from EPA for those sources.

The Department of Justice will receive comments relating to the proposed Consent Decree for a period of thirty (30) days from the date of this publication. Comments should be addressed to the Assistant Attorney General, Environment and Natural Resources Division, Department of Justice, and sent to the Denver Field Office, 999 18th Street, Suite 945NT, Denver, CO 80202, and should refer to United States v. Williams Field Services Company et al., D.J. Ref. 90-5-2-1-06938/1.

The Decree may be examined at the offices of the EPA Library, EPA Region VIII, located at 999 18th Street, First Floor, Denver, Colorado 80202. A copy of the Decree may also be obtained by mail from the Consent Decree Library, PO Box 7611, U.S. Department of Justice, Washington, DC 20044-7611 or by faxing a request to Tonia Fleetwood, fax no. (202) 514-0097, phone confirmation number (202) 514-1547. In requesting a copy, please enclose a check in the amount of $6.25 (25 cents per page reproduction cost) payable to the U.S. Treasury.

Robert Brook,
Assistant Section Chief, Environmental Enforcement Section, Environment and Natural Resources Division.

[FR Doc. 02-5755 Filed 3-8-02; 8:45 am]

BILLING CODE 4410-15-M